NATIONAL SCIENCE FOUNDATION

Business and Operations Advisory Committee; Notice of Meeting

In accordance with the Federal Advisory Committee Act (Pub. L. 92-463, as amended), the National Science Foundation (NSF) announces the following meeting:

Name and Committee Code: Business and Operations Advisory Committee (9556).

Date and Time: December 12, 2018; 1:00 p.m. to 5:15 p.m. (EST).

December 13, 2018; 8:00 a.m. to 12:00 p.m. (EST).

Place: National Science Foundation, 2415 Eisenhower Avenue, Alexandria, Virginia, 22314; Room E 2030.

Type of Meeting: Open.

Contact Person: Joan Miller, National Science Foundation, 2415 Eisenhower Avenue, Alexandria, VA, 22314; (703) 292-8200.

Purpose of Meeting: To provide advice concerning issues related to the oversight, integrity, development and enhancement of NSF's business operations.

Agenda

Wednesday, December 12, 2018; 1:00 p.m.-5:15 p.m.

Welcome/Introductions; BFA/OIRM/OLPA/Budget Updates; Results from the 2018 Federal Employee Viewpoint Survey; Facilities Subcommittees Updates; CFO Office of the Future.

Thursday, December 13, 2018; 8:00 a.m.-12:00 p.m.

Renewing NSF; Renewing NSF—Partnerships Pillar; Meeting with Drs. Córdova and Crim; Committee Business/Wrap Up.

Dated: November 16, 2018.
Crystal Robinson,
Committee Management Officer.

[FR Doc. 2018-25451 Filed 11-21-18; 8:45 am]

BILLING CODE 7555-01-P